DEPARTMENT OF COMMERCE

International Trade Administration

[C-475-819]

Certain Pasta From Italy: Notice of Extension of Time Limit for Preliminary Results of Countervailing Duty Administrative Review

AGENCY: Import Administration, International Trade Administration, Department of Commerce.

ACTION: Notice of extension of time limit for preliminary results of administrative review.

SUMMARY: The Department of Commerce is extending the time limit for the preliminary results in the current administrative review of the countervailing duty order on certain pasta from Italy. The period of review is January 1, 2002 through December 31, 2002. This extension is made pursuant to section 751(a)(3)(A) of the Tariff Act of 1930, as amended by the Uruguay Round Agreements Act.

EFFECTIVE DATE: March 17, 2004.

FOR FURTHER INFORMATION CONTACT: Melani Miller, Import Administration, International Trade Administration, U.S. Department of Commerce, 14th Street and Constitution Avenue, NW., Washington, DC 20230; telephone: (202) 482-0116.

SUPPLEMENTARY INFORMATION:

Background

On August 22, 2003, the Department of Commerce (“the Department”) published a notice of initiation of administrative review of the countervailing duty order on certain pasta from Italy, covering the period January 1, 2002 through December 31, 2002. See Initiation of Antidumping and Countervailing Duty Administrative Reviews, 68 FR 50750 (August 22, 2003). The preliminary results for this review are currently due no later than April 1, 2004.

Extension of Time Limit for Preliminary Results

Section 751(a)(3)(A) of the Tariff Act of 1930, as amended by the Uruguay Round Agreements Act (“the Act”) requires the Department to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Several of the respondents in this proceeding have outstanding supplemental questionnaire responses. Additionally, one respondent, Pastificio Carmine Russo S.p.A., was not issued the original questionnaire until more than a month after the other respondents because it was still participating in a concurrent new shipper review of this order (a review which has since been terminated). Because the Department requires time to review and analyze these responses once they are received and to issue supplemental questionnaires if necessary, it is not practicable to complete this review within the originally anticipated time limit (i.e., April 1, 2004). Therefore, the Department is extending the time limit for completion of the preliminary results to not later than July 30, 2004, in accordance with section 751(a)(3)(A) of the Act.

We are issuing and publishing this notice in accordance with sections 751(a)(1) and 777(i)(1) of the Act.

Dated: March 11, 2004.
Jeffrey May,
Deputy Assistant Secretary for AD/CVD Enforcement.

[FR Doc. 04-6020 Filed 3-16-04; 8:45 am

BILLING CODE 3510-DS-P